DEPARTMENT OF THE INTERIOR

Bureau of Land Management

[NV-040-06-5101-ER-F344; (N-78091)]

Notice of Availability of the Draft Environmental Impact Statement (DEIS) for a Proposed Coal-Fired Electric Power Generating Plant in Eastern White Pine County and Notice of Public Meetings; Nevada

AGENCY: Bureau of Land Management, Interior.

ACTION: Notice of Availability.

SUMMARY: Pursuant to section 102(2)(C) of the National Environmental Policy Act (NEPA) of 1969, a DEIS has been prepared by the Bureau of Land Management (BLM), Ely Field Office for the White Pine Energy Station (WPES) and is now available for comment. This document evaluates the environmental effects from constructing a coal-fired electric power generating plant (up to 1,600-megawatts) and associated features on public lands in White Pine County, Nevada.

DATES: The DEIS is now available for comment. Copies of the DEIS will be mailed to individuals, agencies, or companies who previously requested copies. Mailed comments on the DEIS must be postmarked by June 19, 2007. Written comments on the document should be addressed to Jack Tribble, Acting Assistant Field Manager, Bureau of Land Management, Ely Field Office, HC 33 Box 33500, Ely, NV 89301-9408. Oral and/or written comments may also be presented at two public meetings. There will one public meeting in Ely and one public meeting in Reno. The date, time, and location will be made available at least 15 days before each meeting.

ADDRESSES: Public reading copies of the DEIS will be available for reading at public libraries listed below:

—University of Nevada-Reno, Getchell Library, Government Publication Dept., Reno, NV 89507.

—Washoe County Library, 301 South Center Street, Reno, NV 89501.

—White Pine County Library, 950 Campton Street, Ely, NV 89301.

A limited number of copies of the document will be available at the following BLM offices:

—Bureau of Land Management, Elko Field Office, 3900 Idaho Street, Elko, NV 89801.

—Bureau of Land Management, Carson City Field Office, 5665 Morgan Mill Road, Carson City, NV 89701.

—Bureau of Land Management, Ely Field Office, 702 North Industrial Way, Ely, NV 89301-9408.

—Nevada State Office, 1340 Financial Boulevard, Reno, NV 89502-7147.

—Washington Office of Public Affairs, 18th and C Street, NW., Washington, DC 20240.

Individual respondents may request confidentiality. If you wish to withhold your name and/or street address from public review or from disclosure under the Freedom of Information Act, you must state this prominently at the beginning of your written comments. Such requests will be honored to the extent allowed by law. All submissions from organizations, businesses, and from individuals identifying themselves as representatives or officials of organizations or businesses will be available for public inspection in their entirety.

FOR FURTHER INFORMATION CONTACT: Doris Metcalf at the above address, or phone: 775-289-1852.

SUPPLEMENTARY INFORMATION: The DEIS addresses alternatives to resolve the following major issues: Ground water, air quality, visual resources, biological resources, and socioeconomic effects.

The Proposed Action includes the following actions: Northern coal-fired power plant site right-of-way (ROW), northern transmission line alignment and substations ROW, northern well field and water line ROW, northern railroad spur ROW, access roads ROW, and ancillary features ROW. Alternative 1 includes the following actions: Southern coal-fired power plant site ROW, southern transmission line alignment and substations ROW, southern well field and water line ROW, southern railroad spur ROW, access roads ROW, and ancillary features ROW.

The Proposed Action and Alternative 1 also include the following project actions and features: Issue ROWs for White Pine Energy Station construction and operation and subsequently arrange for the sale of the power plant site to White Pine Energy Associates; construct, operate, and maintain a 1,600-megawatt (maximum) coal-fired electric power generating plant using hybrid cooling systems that has an expected commercial life of 50 years or longer; develop a well field in the Steptoe Valley Hydrographic Basin to meet the water needs of the power plant; construct a new rail spur from the Nevada Northern Railway (NNR) to the power plant site to supply coal; develop the linear infrastructure necessary to connect the power plant to the new water source, to existing electric transmission lines serving the region, and to provide site access; and implement a seeding project to enhance the grazing and wildlife value of 700 to 900 acres. The Proposed Action and Alternative 1 differ primarily in the location of the power plant site, well field, and transmission line alignment (northern vs. southern).

The No Action Alternative represents the current situation (i.e., not approving or implementing any of the above-described actions).

Public participation is occurring throughout the processing of the application for this proposed project. A Notice of Intent was published in the Federal Register on August 6, 2004, 69 FR 47954-47955. One round of public meetings was held. Comments presented throughout the process have been considered and incorporated into the DEIS as appropriate.

Dated: October 13, 2006.
Jack Tribble,
Acting Assistant Field Manager, Nonrenewable Resources.

Note: This notice was received by the Office of the Federal Register on April 13, 2007.

[FR Doc. E7-7341 Filed 4-19-07; 8:45 am]

BILLING CODE 4310-HC-P